DEPARTMENT OF TRANSPORTATION

Federal Motor Carrier Safety Administration

[Docket No FMCSA-2011-0097]

Pilot Program on NAFTA Long-Haul Trucking Provisions

AGENCY: Federal Motor Carrier Safety Administration (FMCSA), DOT.

ACTION: Notice of Availability; request for comment.

SUMMARY: FMCSA announces the availability of a Draft Environmental Assessment (DEA) that evaluates the potential environmental impacts resulting from the implementation of its United States-Mexico cross-border long-haul trucking pilot program. This pilot program is part of FMCSA's implementation of the North American Free Trade Agreement (NAFTA) cross-border long-haul trucking provisions. This pilot program would allow Mexico-domiciled motor carriers to operate throughout the United States for up to 3 years. U.S.-domiciled motor carriers would be granted reciprocal rights to operate in Mexico for the same period. Participating Mexican carriers and drivers would be required to comply with all applicable U.S. laws and regulations, including those concerned with motor carrier safety, customs, immigration, vehicle registration and taxation, and fuel taxation.

DATES: Comments are due by August 11, 2011.

ADDRESSES: You may submit comments identified by Federal Docket Management System Number FMCSA-2011-0097 using any of the following methods:

• Federal eRulemaking Portal: Go to http://www.regulations.gov.

• Fax: 202-493-2251.

• Mail: Docket Management Facility (M-30), U.S. Department of Transportation, West Building Ground Floor, Room W12-140, 1200 New Jersey Avenue, SE., Washington, DC 20590-0001.

• Hand Delivery: West Building Ground Floor, Room W12-140, 1200 New Jersey Avenue, SE., Washington, DC 20590-0001, between 9 a.m. and 5 p.m., E.T., Monday through Friday, except Federal holidays. The telephone number is 202-366-9329.

Instructions: To view the DEA, go to the online docket (Regulations.gov) at http://www.regulations.gov/ and enter in the docket number (FMCSA-2011-0097) and search for the Draft Environmental Assessment. All submissions must include the Agency name and docket number (FMCSA-2011-0097) for this rulemaking. To avoid duplication, please use only one of these four methods. Note that all comments received will be posted without change to http://www.regulations.gov, including any personal information provided. Please refer to the Privacy Act heading for further information.

Comments received after the comment closing date will be included in the docket and we will consider late comments only to the extent practicable. FMCSA may issue a Final Environmental Assessment (FEA) at any time after the close of the comment period.

Docket: For access to the docket to read background documents or comments received, go to http://www.regulations.gov at any time or to West Building Ground Floor, Room W12-140, 1200 New Jersey Avenue, SE., Washington, DC, between 9 a.m. and 5 p.m., E.T., Monday through Friday, except Federal holidays.

Privacy Act: Anyone is able to search the electronic form for all comments received into any of our dockets by the name of the individual submitting the comment (or signing the comment, if submitted on behalf of an association, business, labor union, etc.). You may review the U.S. Department of Transportation's (DOT) complete Privacy Act Statement in the Federal Register published on January 17, 2008 (73 FR 3316), or you may visit http://edocket.access.gpo.gov/2008/pdf/E8-785.pdf.

FOR FURTHER INFORMATION CONTACT: Michael M. Johnsen, Environmental Protection Specialist, Analysis Division, Federal Motor Carrier Safety Administration, U.S. Department of Transportation, 1200 New Jersey Avenue, SE., Washington, DC 20590, (202) 366-4111.

SUPPLEMENTARY INFORMATION:

Draft Environmental Assessment

In accordance with the National Environmental Policy Act of 1969 (NEPA) (section 102(2)(c)), as implemented by the Council on Environment Quality regulations (40 CFR parts 1500-1508), FMCSA's Order 5610.1, issued March 1, 2004 (69 FR 9680), and other applicable guidance and requirements, FMCSA prepared a DEA for the U.S.-Mexican cross-border long-haul trucking program. FMCSA analyzed the potential impacts to the environment that may result from implementing the pilot project. FMCSA evaluated environmental issues such as emissions from vehicles, fuel types, air quality impacts, and other pertinent issues in the DEA and is requesting comments.

Background on the Pilot Project on the U.S.-Mexico Cross-Border Long-Haul Trucking Program

The pilot program is part of FMCSA's implementation of the North American Free Trade Agreement (NAFTA) cross-border long-haul trucking provisions. This pilot program would allow Mexico-domiciled motor carriers to operate throughout the United States for up to 3 years. U.S.-domiciled motor carriers would be granted reciprocal rights to operate in Mexico for the same period. Participating Mexican carriers and drivers would be required to comply with all applicable U.S. laws and regulations, including those concerned with motor carrier safety, customs, immigration, vehicle registration and taxation, and fuel taxation. The safety of the participating carriers would be tracked closely by FMCSA with input from the Motor Carrier Safety Advisory Committee, a Federal advisory committee. For further information regarding this pilot program, please see Federal Register notice of the Pilot Program on NAFTA Long Haul Trucking Provisions in docket FMCSA-2011-0097. The docket contains background information for this action, including comments.

On April 13, 2011, FMSCA issued a notice and request for public comments on the proposed U.S.-Mexico cross-border long-haul trucking pilot program (76 FR 20807 Docket Number FMCSA-2011-0097). There were several comments on the notice regarding environmental impacts, and these comments are addressed in this DEA.

We are requesting your comments on environmental concerns that you may have related to the DEA. This includes suggesting analysis and methodologies for use in the FEA or possible sources of data or information not included in the DEA. Your comments will be considered in preparing a Finding of No Significant Impact, an FEA, or determining if preparation of an Environmental Impact Statement is warranted.

Issued on: June 30, 2011.
Kelly Leone,
Associate Administrator, Office of Research and Information Technology, FMCSA.

[FR Doc. 2011-17492 Filed 7-11-11; 8:45 am]

BILLING CODE 4910-EX-P